FEDERAL COMMUNICATIONS COMMISSION

47 CFR Part 73

[DA 06-272; MB Docket No. 06-19; RM-11288

Radio Broadcasting Services; Hattiesburg and Sumrall, MS

AGENCY: Federal Communications Commission.

ACTION: Proposed rule.

SUMMARY: This document requests comments on a Petition for Rule Making filed by Unity Broadcasting requesting to upgrade Channel 226A, FM Station WGDQ, to Channel 226C3 and to reallot Channel 226C3 to Sumrall, Mississippi, as that community's second local aural transmission service. To accommodate this allotment, Petitioner requested the reclassification of FM Station WUSW, Channel 279C, Hattiesburg, Mississippi, to specify operation on Channel 279C0 pursuant to the reclassification procedures adopted by the Commission. See 1998 Biennial Regulatory Review—Streamlining of Radio Technical Rules in Parts 73 and 74 of the Commission's Rules, 65 FR 79773 (December 20, 2000). The licensee of Station WUSW did not respond to an Order to Show Cause why Station WUSW should not be downgraded from Channel 279C to Channel 279C0. Therefore, the Commission has reclassified Station WUSW to Channel 279C0. Channel 226C3 can be allotted with a site restriction of 19.5 kilometers (12.1 miles) northeast of Sumrall, at reference coordinates of 31-33-15 NL and 89-24-50 WL.

DATES: Comments must be filed on or before March 30, 2006, and reply comments on or before April 14, 2006. Any counterproposal filed in this proceeding need only protect FM Station WUSW, Hattiesburg, Mississippi, Channel 279C, as a Class C0 allotment.

ADDRESSES: Federal Communications Commission, 445 Twelfth Street, SW., Washington, DC 20554. In addition to filing comments with the FCC, interested parties should serve the petitioner's counsel as follows: Jerrold Miller, Esq, Miller and Neely, P.C.; 6900 Wisconsin Ave., Suite 704; Bethesda, Maryland 20815.

FOR FURTHER INFORMATION CONTACT: R. Barthen Gorman, Media Bureau, (202) 418-2180.

SUPPLEMENTARY INFORMATION: This is a synopsis of the Commission's Notice of Proposed Rule Making, MB Docket No. 06-19, adopted February 2, 2006, and released February 6, 2006. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Mississippi, is amended by removing Channel 226A at Hattiesburg, and by adding Channel 226C3 at Sumrall.

Federal Communications Commission.
John A. Karousos,
Assistant Chief, Audio Division, Media Bureau.

[FR Doc. 06-1519 Filed 2-21-06; 8:45 am]

BILLING CODE 6712-01-P